DEPARTMENT OF THE INTERIOR

National Park Service

[NPS-WASO-BSD-CONC-12098; PPWOBSADC0, PPMVSCS1Y.Y00000]

Information Collection Request Sent to the Office of Management and Budget (OMB) for Approval; National Park Service Concessions

AGENCY: National Park Service, Interior.

ACTION: Notice; request for comments.

SUMMARY: We (National Park Service) have sent an Information Collection Request (ICR) to OMB for review and approval. We summarize the ICR below and describe the nature of the collection and the estimated burden and cost. This information collection is scheduled to expire on September 30, 2013. We may not conduct or sponsor and a person is not required to respond to a collection of information unless it displays a currently valid OMB control number. However, under OMB regulations, we may continue to conduct or sponsor this information collection while it is pending at OMB.

DATES: You must submit comments on or before September 20, 2013.

ADDRESSES: Send your comments and suggestions on this information collection to the Desk Officer for the Department of the Interior at OMB-OIRA at (202) 395-5806 (fax) or OIRA_Submission@omb.eop.gov (email). Please provide a copy of your comments to Madonna L. Baucum, Information Collection Clearance Officer, National Park Service, 1849 C Street NW. (2601), Washington, DC 20240 (mail); or madonna_baucum@nps.gov (email). Please include “1024-0029” in the subject line of your comments.

FOR FURTHER INFORMATION CONTACT: To request additional information about this ICR, contact Ben Erichsen, Chief, Commercial Services Program, at (202) 513-7156 (telephone) or ben_erichsen@nps.gov (email). You may review the ICR online at http://www.reginfo.gov. Follow the instructions to review Department of the Interior collections under review by OMB.

SUPPLEMENTARY INFORMATION: OMB Control Number: 1024-0029.

Title: National Park Service Concessions.

Service Form Number(s): 10-356 and 10-356A.

Type of Request: Revision of a currently approved collection.

Description of Respondents: Individuals, businesses, and nonprofit organizations.

Respondent's Obligation: Required to obtain or retain a benefit.

Frequency of Collection: Annually for financial reports, ongoing for recordkeeping, and on occasion for the remaining requirements.

Activity | Number of respondents | Number of annual responses | Completion time per response | Total annual burden hours
Proposal—Large Concession | 30 | 30 | 240 hours | 7,200
Proposal—Small Concession | 60 | 60 | 80 hours | 4,800
Amendments | 1 | 1 | 1 hour | 1
Appeals | 1 | 1 | 30 minutes | 1
Request To Construct a Capital Improvement—Large Projects | 31 | 31 | 16 hours | 496
Request To Construct a Capital Improvement—Small Projects | 89 | 89 | 8 hours | 712
Construction Report—Large Project | 31 | 31 | 56 hours | 1,736
Construction Report—Small Project | 89 | 89 | 24 hours | 2,136
Application to Sell or Transfer a Concession Operation | 20 | 20 | 80 hours | 1,600
Form 10-356 | 150 | 150 | 16 hours | 2,400
Form 10-356A | 350 | 350 | 4 hours | 1,400
Recordkeeping—Large Concessions | 150 | 150 | 800 hours | 120,000
Recordkeeping—Small Concessions | 350 | 350 | 50 hours | 17,500
Totals | 1.352 | 1.352 |  | 159,982

Estimated Annual Nonhour Burden Cost: $425,000.

Abstract: Private businesses under contract to the National Park Service manage food, lodging, tours, whitewater rafting, boating, and many other recreational activities and amenities in more than 100 national parks. These services gross more than $1 billion every year and provide jobs for more than 25,000 people during peak season.

The regulations at 36 CFR Part 51 primarily implement Title IV of the National Parks Omnibus Management Act of 1998 (Pub. L. 105-391), which provides legislative authority, policies, and requirements for the solicitation, award, and administration of NPS concession contracts. The information collection requirements associated with NPS concessions are currently approved under four OMB control numbers. During our review for this renewal, we discovered some additional requirements that need OMB approval. In this revision of 1024-0029, we are including all of the information collection requirements associated with applying for and operating NPS concessions. If OMB approves this revision, we will discontinue OMB Control Numbers 1024-0125, 1024-0126, and 1024-0231.

Comments: On March 7, 2013, we published in the Federal Register (78 FR 14822) a notice of our intent to request that OMB approve this information collection. In that notice, we solicited comments for 60 days, ending on May 6, 2013. We did not receive any comments.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: August 16, 2013.
Leonard E. Stowe,
Acting Information Collection Clearance Officer, National Park Service.

[FR Doc. 2013-20395 Filed 8-20-13; 8:45 am]

BILLING CODE 4310-EH-P